DEPARTMENT OF HEALTH AND HUMAN SERVICES

Centers for Disease Control and Prevention

[60Day-21-21EE; Docket No. CDC-2021-0033]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Integrated Viral Hepatitis Surveillance and Prevention Funding for Health Departments. This new data collection is for viral hepatitis (VH) case reporting data collected from the National Notifiable Diseases Surveillance System (NNDSS) which provides the primary population-based data used to describe the epidemiology of VH in the United States and for annual reporting of surveillance, prevention, and epidemiology performance measures via an Annual Performance Report.

DATES: CDC must receive written comments on or before June 15, 2021.

ADDRESSES: You may submit comments, identified by Docket No. CDC-2021-0033 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Integrated Viral Hepatitis Surveillance and Prevention Funding for Health Departments—New—National Center for HIV/AIDS, Viral Hepatitis, STD, and TB Prevention (NCHHSTP), Centers for Disease Control and Prevention (CDC).

Background and Brief Description

CDC is authorized under Sections 304 and 306 of the Public Health Service Act (42 U.S.C. 242b and 242k) to collect information on cases of viral hepatitis (VH). Data collected by the National Notifiable Diseases Surveillance System (NNDSS) are the primary data used to monitor the extent and characteristics of the VH burden in the United States. VH surveillance data are used to describe trends in VH incidence, prevalence, and characteristics of infected persons and are used widely at the federal, state, and local levels for planning and evaluating prevention programs and health-care services, and to allocate funding for prevention and care.

In 2021, CDC is implementing activities under a new cooperative agreement Integrated Viral Hepatitis Surveillance and Prevention Funding for Health Departments (CDC-RFA-PS21-2103). Tools exist to prevent new cases of hepatitis A, B, and C, to treat people living with hepatitis B, and to cure people living with hepatitis C. Yet new cases of VH continue to rise, many people infected with VH remain undiagnosed, and far too many VH-related deaths occur in the US each year. The purpose of the activities under a new cooperative agreement is to enable states to collect data to evaluate disease burden and trends and to analyze and disseminate that data to develop or refine recommendations, policies, and practices that will ultimately reduce the burden of VH in their jurisdictions. The goals of the activities are to reduce new VH infections, VH-related morbidity and mortality, and VH-related disparities and to establish comprehensive national VH surveillance, which are in accordance with the Division of Viral Hepatitis 2025 Strategic Plan.

The activities of the new cooperative agreement are separated into two components (Component 1: Surveillance, and Component 2: Prevention), containing six strategies: 1.1, develop, implement, and maintain a plan to rapidly detect and respond to outbreaks for hepatitis A, B, and C; 1.2, collect, analyze, interpret, and disseminate data to characterize trends, and implement public health interventions for hepatitis A, acute hepatitis B and acute and chronic hepatitis C; 1.3 (contingent on available funding), collect, analyze, interpret, and disseminate data to characterize trends and implement public health interventions for chronic hepatitis B and perinatal hepatitis C; 2.1, support VH elimination planning and surveillance, and maximize access to testing, treatment, and prevention; 2.2 (contingent on available funding), increase access to HCV and HBV testing and referral to care in high-impact settings; and 2.3 (contingent on available funding), improve access to services preventing VH among persons who inject drugs. Contingent on funding, an optional component (Component 3: Special Projects) will support improved access to prevention, diagnosis, and treatment of viral, bacterial and fungal infections related to drug use in settings disproportionately affected by drug use.

Performance measures will be monitored to assess recipient performance, including quality of data, effective program implementation, and accountability of funds. Data collection via the Annual Performance Report is used for program accountability and to inform performance improvement.

Outbreak reporting will also be submitted throughout the year. These data, which complement case data as another key component of national viral hepatitis surveillance, are critical to determining both the level of viral hepatitis activity within a jurisdiction as well as the effectiveness of each jurisdiction's approach to cluster and outbreak response.

A standardized Case Report Form will be used for surveillance data collection submitted to the National Notifiable Diseases Surveillance System (NNDSS). De-identified data, including national VH surveillance data, will be submitted to CDC electronically per each jurisdiction's usual mechanism. Recipients will submit other required quantitative and qualitative performance measure data annually via an Annual Performance Report and as needed for outbreak reporting. CDC requests approval for an estimated 6,688 annual burden hours. There are no other costs to respondents other than their time.

Estimated Annualized Burden Hours
Type of respondent | Form name | Number of respondents | Number of responses per respondent | Average burden per response (in hours) | Total annual burden (in hours)
Health Departments | Viral Hepatitis Case Report Form | 51 | 381 | 20/60 | 6,477
Health Departments | APR: Component 1 | 59 | 1 | 1 | 59
Health Departments | APR: Component 2 | 59 | 1 | 1 | 59
Health Departments | APR: Component 3 | 14 | 1 | 1 | 14
Health Departments | Initial Outbreak Report Form | 59 | 2 | 20/60 | 39
Health Departments | Outbreak Summary Report Form | 59 | 2 | 20/60 | 39
Total |  |  |  |  | 6,688

Jeffrey M. Zirger,
Lead, Information Collection Review Office, Office of Scientific Integrity, Office of Science, Centers for Disease Control and Prevention.

[FR Doc. 2021-07838 Filed 4-15-21; 8:45 am]

BILLING CODE 4163-18-P